DEPARTMENT OF TRANSPORTATION

Office of the Secretary

[Docket No. DOT-OST-2012-0087]

Advisory Committee for Aviation Consumer Protection

AGENCY: Office of the Secretary (OST), Department of Transportation (DOT).

ACTION: Notice of first meeting of advisory committee.

SUMMARY: This notice announces the first meeting of the Advisory Committee for Aviation Consumer Protection.

DATES: The first meeting of the advisory committee is scheduled for June 28, 2012, from 9:00 a.m. to 5:00 p.m., Eastern Time.

ADDRESSES: The meeting will be held in the Oklahoma City Room (located on the lobby level of the West Building) at the U.S. Department of Transportation, 1200 New Jersey Avenue SE., Washington, DC. Attendance is open to the public; however, since access to the U.S. DOT headquarters building is controlled for security purposes, any member of the general public who plans to attend this meeting must notify the Department contact noted below at least five (5) calendar days prior to the meeting.

FOR FURTHER INFORMATION CONTACT: To register to attend the meeting, please contact Lynora Simmons Kendale, Lynora.SimmonsKendale@dot.gov. For other information please contact Nicholas Lowry, Senior Attorney, Office of the Assistant General Counsel for Aviation Enforcement and Proceedings, nick.lowry@dot.gov, or Blane A. Workie, Deputy Assistant General Counsel, Office of the Assistant General Counsel for Aviation Enforcement and Proceedings, U.S. Department of Transportation, 1200 New Jersey Ave. SE., Washington, DC 20590, 202-366-9342 (phone), 202-366-7152 (fax), Blane.Workie@dot.gov.

SUPPLEMENTARY INFORMATION: Section 411 of the FAA Modernization and Reform Act of 2012 (Pub. L. 112-95, 126 Stat. 11 (2012)) mandates the establishment of an advisory committee for the purpose of advising the Secretary of Transportation on airline customer service improvements. More specifically, the Act requires the advisory committee to evaluate and provide recommendations to the Secretary for improving existing aviation consumer protection programs and for establishing additional such programs if appropriate. The Act also limits the committee's membership to four members appointed by the Secretary of Transportation—one representative each of airlines, airports, non-profit public interest groups, and state and local governments. Section 411 specifies that the advisory committee shall terminate on September 30, 2015.

On May 24, 2012, the Secretary established the advisory committee and announced those persons appointed as members of the committee. The selected members are as follows: (1) Lisa Madigan who is the attorney general of Illinois, who will also be the committee chairperson; (2) David Berg who is the senior vice president, general counsel and corporate secretary for Airlines for America; (3) Deborah Ale-Flint who is Oakland International Airport's director of aviation; and (4) Charles Leocha who is the founder of the Consumer Travel Alliance. All of the committee members have demonstrated experience in dealing with consumer protection issues.

A charter for the committee, drafted in accordance with the Federal Advisory Committee Act (FACA), as amended, 5 U.S.C. App. 2, sets forth policies for the operation of the advisory committee. It designates the Department's Assistant General Counsel for Aviation Enforcement and Proceedings as the Committee's Designated Federal Official (DFO) to help run the meetings of the committee. This charter is available on the Department's Web site at http://www.dot.gov/affairs/2012/dot5912.html.

As noted above, the first meeting of the committee will take place on June 28, 2012. The agenda topics for the first meeting will include, in a morning session, presentations by staff in the Office of the Aviation Enforcement and Proceedings and its Aviation Consumer Protection Division regarding organization of the offices, existing aviation consumer protection and civil rights statutory and regulatory requirements, and on-going and planned enforcement and rulemaking activities. In an afternoon session, we expect to provide an opportunity for presentations by representatives from organizations representing airlines, travel agents, airport operators, state and local governments, and consumer and other public interest groups. Those organizations wishing to make presentations, which should be limited to no more than 10 minutes, should notify the contact person indicated above no later than five (5) calendar days before the meeting and provide that person a written summary of their presentations to help the committee members prepare for the meeting. Efforts will be made to accommodate each organization that wishes to make a presentation. However, given time constraints, there is no guarantee that all the organizations that make such a request will be able to address the advisory committee at the June 28th meeting. In order to provide for a balanced presentation of views and to facilitate the orderly conduct of the meeting, including time for questions from committee members, the committee chairperson may impose rules or procedures, including the order of organizations that will be making presentations, as she deems necessary. If more organizations would like to make presentations than the time available permits, a schedule will be developed so that these organizations can present at the next advisory committee meeting.

The committee will meet no more than four times in each 12-month period starting after May 24, 2012. It is anticipated that all meetings will be held in Washington, DC at the U.S. DOT headquarters building. The Department will publish notices in the Federal Register to announce the dates, times, and locations of future meetings. Meetings of the committee will be open to the public, and time will be provided for comments by members of the public. Since access to the U.S. DOT headquarters building is controlled for security purposes, we ask that any member of the general public who plans to attend the first meeting notify the Department contact noted above no later than five (5) calendar days prior to the meeting. Attendance will be necessarily limited by the size of the meeting room.

Members of the public may present written comments at any time. The docket number referenced above has been established for committee documents including any written comments that may be filed. At the discretion of the Chairperson and time permitting, after completion of the organizational presentations in the afternoon of the first meeting, individual members of the public may provide oral comments at the meeting. Any oral comments presented must be limited to objectives of the committee and will be limited to five (5) minutes per person. Individual members of the public who wish to present oral comments must notify the Department contact noted above via email that they wish to attend and present oral comments at least five (5) calendar days prior to the meeting. For this initial meeting, no more than one hour will be set aside for oral comments by the general public.

Persons with a disability who plan to attend the meeting and require special accommodations, such as an interpreter for the hearing impaired, should contact the Department contact noted above at least seven (7) calendar days prior to the meeting. Persons attending with a service animal should also advise us of that fact so that it can be taken into account in connection with space and possible allergy issues.

Notice of this meeting is being provided in accordance with the FACA and the General Services Administration regulations covering management of Federal advisory committees. (41 CFR Part 102-3.)

Issued in Washington, DC, on June 8, 2012.
Samuel Podberesky,
Assistant General Counsel for Aviation Enforcement & Proceedings, U.S. Department of Transportation.

[FR Doc. 2012-14456 Filed 6-12-12; 8:45 am]

BILLING CODE 4910-9X-P